DEPARTMENT OF HEALTH AND HUMAN SERVICES

Chronic Fatigue Syndrome Advisory Committee

AGENCY: Office of the Secretary, HHS.

ACTION: Notice of meeting.

SUMMARY: As stipulated by the Federal Advisory Committee Act, the U.S. Department of Health and Human Services is hereby giving notice that the Chronic Fatigue Syndrome Advisory Committee (CFSAC) will hold a meeting. The meeting will be open to the public.

DATES: The meeting will be held on Monday, September 27, 2004, from 9 a.m. to 5 p.m.

ADDRESSES: Department of Health and Human Services, Hubert H. Humphrey Building, 200 Independence Avenue, SW., Room 705A, Washington, DC 20201.

FOR FURTHER INFORMATION, CONTACT: Dr. Larry E. Fields, Executive Secretary, Chronic Fatigue Syndrome Advisory Committee, U.S. Department of Health and Human Services, Hubert H. Humphrey Building, 200 Independence Avenue, SW., Room 719H, Washington, DC 20201; (202) 690-7694.

SUPPLEMENTARY INFORMATION: CFSAC was established on September 5, 2002, to replace the Chronic Fatigue Syndrome Coordinating Committee. CFSAC was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

The tentative agenda for this meeting is as follows:

9 a.m. Chairperson

Call to Order

Request for Roll Call

Introductions and Opening Remarks

Approval of the Minutes of June 21st, 2004

Discussion

9:20 a.m. Executive Secretary

Roll Call

Summary of Public Comments

Operational Matters

Discussion

9:30 a.m. Invited Organizational Updates

K. Kimberly McCleary

CFIDS Association of America

Research Funding

Discussion

Jill McLaughlin

National CFIDS Foundation, Inc.

Patient Issues

Discussion

10:30 a.m. Break

10:45 a.m. Ex Officio Members

Requested follow-ups

Other Updates

Discussion

11:30 a.m. Public Comment

12 noon Lunch Break

1 p.m. Subcommittee Updates

Disabilities: Lyle Lieberman, Chair

Education: Dr. Roberto Patarca, Chair

Research: Dr. Nahid Mohagheghpour, Chair

2:24 p.m. Break

3:15 p.m. Planning: Future Directions

Recommendations

Invited Organizational Updates

Other Matters

Discussion

4 p.m. Public Comment

4:30 p.m. Summary

Action Steps

Timelines

5 p.m. Adjournment

Public attendance at the meeting is limited to space available. Individuals must provide a photo ID for entry into the meeting. Individuals who plan to attend and need special assistance, such as sign language interpretation or other reasonable accommodations, should notify the designated contact person. Members of the public will have the opportunity to provide comments at the meeting. Pre-registration is required for public comment by September 17, 2004. Any individual who wishes to participate in the public comment session should call the telephone number listed in the contact information to register. Public comment will be limited to five minutes per speaker. Any members of the public who wish to have printed material distributed to CFSAC members should submit materials to the Executive Secretary, CFSAC, whose contact information is listed above prior to close of business September 17, 2004.

Dated: September 8, 2004.
Dr. Larry E. Fields,
Executive Secretary, Chronic Fatigue Syndrome Advisory Committee.

[FR Doc. 04-20635 Filed 9-9-04; 10:03 am]

BILLING CODE 4150-28-P